NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by November 12, 2019. This application may be inspected by interested parties at the Permit Office, address below.

ADDRESSES: Comments should be addressed to Permit Office, Office of Polar Programs, National Science Foundation, 2415 Eisenhower Avenue, Alexandria, Virginia 22314.

FOR FURTHER INFORMATION CONTACT: Nature McGinn, ACA Permit Officer, at the above address, 703-292-8030, or ACApermits@nsf.gov.

SUPPLEMENTARY INFORMATION: The National Science Foundation, as directed by the Antarctic Conservation Act of 1978 (Pub. L. 95-541, 45 CFR 670), as amended by the Antarctic Science, Tourism and Conservation Act of 1996, has developed regulations for the establishment of a permit system for various activities in Antarctica and designation of certain animals and certain geographic areas a requiring special protection. The regulations establish such a permit system to designate Antarctic Specially Protected Areas.

Application Details

1. Applicant: Lee Welhouse, 1225 West Dayton Street, Madison, Wisconsin, USA 53706—Permit application No. 2020-014.

Activity for Which Permit Is Requested—Enter Antarctic Specially Protected Area (ASPA). The applicant would enter ASPA 106, Cape Hallett, to perform maintenance and updates on an already installed automatic weather station and to retrieve data collected from the station. The permit holder and agents would approach the area by small fixed-wing aircraft and enter the ASPA on foot. The permit holder would adhere to all guidance in the ASPA management plan.

Location—ASPA 106, Cape Hallett, Northern Victoria Land, Ross Sea.

Dates of Permitted Activities—November 10-30, 2019.

2. Applicant: Patricia Ward, Nutopia Ltd., Kirkman House, 12-14 Whitfield Street, London, W1T 2RF, UK—Permit application No. 2020-015.

Activity for Which Permit Is Requested—Harmful Interference. The applicant and agents propose to film emperor penguins (Aptenodytes forsteri) underwater and on the sea ice, using handheld cameras, pole-mounted cameras, and cameras attached to remotely piloted aircraft systems (RPAS). The resulting footage and photography would be used to create media products including a multi-part series for television. The applicant and agents would access the filming area via helicopter and approach the penguins on foot or while diving. Divers would not approach penguins, but penguins are expected to come within five meters of divers. On the sea ice and when operating the RPAS, the applicant and agents would maintain distance from penguins that would avoid or minimize disturbance. The results of this work are expected to be useful for outreach and education about Antarctica and the scientific research conducted there.

Location—McMurdo Sound, Ross, Sea, Antarctica.

Dates of Permitted Activities—November 13-December 15, 2019.

Erika N. Davis,
Program Specialist, Office of Polar Programs.

[FR Doc. 2019-22193 Filed 10-9-19; 8:45 am]

BILLING CODE 7555-01-P